DEPARTMENT OF ENERGY

Federal Energy Regulatory Commission

Combined Notice of Filings #1

Take notice that the Commission received the following electric rate filings:

Docket Numbers: ER23-1784-001.

Applicants: PJM Interconnection, L.L.C.

Description: Compliance filing: Order No. 676-J Compliance Revisions to Tariff, Section 4.2 to be effective 2/1/2024.

Filed Date: 1/9/24.

Accession Number: 20240109-5101.

Comment Date: 5 p.m. ET 1/30/24.

Docket Numbers: ER23-2635-002.

Applicants: PJM Interconnection, L.L.C.

Description: Tariff Amendment: Supplement to Filing, Original ISA, SA No. 6571 to be effective 7/20/2023.

Filed Date: 1/9/24.

Accession Number: 20240109-5067.

Comment Date: 5 p.m. ET 1/30/24.

Docket Numbers: ER24-833-000.

Applicants: Midcontinent Independent System Operator, Inc., Michigan Electric Transmission Company, LLC.

Description: § 205(d) Rate Filing: Midcontinent Independent System Operator, Inc. submits tariff filing per 35.13(a)(2)(iii: 2024-01-09_SA 4222 METC-Consumers Energy E&P (J2814) to be effective 1/2/2024.

Filed Date: 1/9/24.

Accession Number: 20240109-5033.

Comment Date: 5 p.m. ET 1/30/24.

Docket Numbers: ER24-834-000.

Applicants: Southern California Edison Company.

Description: Tariff Amendment: Termination of GIA & DSA, SERC (WDT1189-1293/SA999-1000) to be effective 3/10/2024.

Filed Date: 1/9/24.

Accession Number: 20240109-5050.

Comment Date: 5 p.m. ET 1/30/24.

Docket Numbers: ER24-835-000.

Applicants: Black Walnut Energy Storage, LLC.

Description: § 205(d) Rate Filing: Black Walnut Energy Storage, LLC MBR Tariff to be effective 3/10/2024.

Filed Date: 1/9/24.

Accession Number: 20240109-5071.

Comment Date: 5 p.m. ET 1/30/24.

Docket Numbers: ER24-836-000.

Applicants: PacifiCorp.

Description: § 205(d) Rate Filing: Constellation FKA Exelon NITSA (OR DA) SA 943 Rev 6 to be effective 1/1/2024.

Filed Date: 1/9/24.

Accession Number: 20240109-5081.

Comment Date: 5 p.m. ET 1/30/24.

Docket Numbers: ER24-837-000.

Applicants: Union Electric Company.

Description: § 205(d) Rate Filing: Amendment to Market-Based Rate Tariff to be effective 1/10/2024.

Filed Date: 1/9/24.

Accession Number: 20240109-5119.

Comment Date: 5 p.m. ET 1/30/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 9, 2024.
Debbie-Anne A. Reese,
Acting Secretary.

[FR Doc. 2024-00725 Filed 1-16-24; 8:45 am]

BILLING CODE 6717-01-P